DEPARTMENT OF LABOR

Office of the Secretary

[Secretary's Order 6-2009]

Delegation of Authority and Assignment of Responsibilities to the Employee Benefits Security Administration

1. Purpose. To delegate authority and assign responsibilities for the administration of the Department of Labor's responsibilities under the Employee Retirement Income Security Act of 1974 (ERISA), Federal Employees' Retirement System Act of 1986 (FERSA), and certain other statutes.

2. Authority and Directives Affected. This order supersedes Secretary's Order 1-2003, 68 FR 5374 (Feb. 3, 2003).

3. Background. ERISA places responsibility in the Department of Labor for the administration of a comprehensive program to protect the interests of participants and beneficiaries of private sector employee benefit plans. Secretary's Order 1-2003 delegated authority for this program to the Assistant Secretary for Employee Benefits Security.

FERSA requires the Department of Labor to, among other things, administer and enforce the fiduciary responsibility, prohibited transaction, and bonding provisions of FERSA. Secretary's Order 1-2003 also delegated these responsibilities to the Assistant Secretary for Employee Benefits Security.

Secretary's Order 16-2006, 71 FR 67024 (Nov. 17, 2006), delegates the authority and responsibility to invoke governmental privileges on a Department-wide basis and supersedes the delegation of such authority and responsibility in Secretary's Order 1-2003.

The Health Insurance Portability and Accountability Act of 1996, amended ERISA and separated allocated certain additional authority and responsibilities to the Secretary of Labor.

Two recently enacted statutes, the American Recovery and Reinvestment Act of 2009 and the Children's Health Insurance Program Reauthorization Act of 2009 have given the Secretary of Labor new authority and responsibilities.

4. Delegation of Authority and Assignment of Responsibilities

A. Except as hereinafter provided, the Assistant Secretary for Employee Benefits Security is delegated the authority (including the authority to re-delegate) and assigned the responsibilities of the Secretary of Labor—

(1) under the following statutes, including any amendments:

(a) The Employee Retirement Income Security Act of 1974, as amended, except for subtitle C of Title III and Title IV (29 U.S.C. 1001-1232);

(b) The Welfare and Pension Plans Disclosure Act of 1958, as amended Public Law 85-836, 72 Stat. 997; Public Law 86-624, 74 Stat. 417; Public Law 87-420, 76 Stat. 35.

(c) The Federal Employees' Retirement System Act of 1986 (5 U.S.C. 8401-8479);

(d) The Health Insurance Portability and Accountability Act of 1996, Public Law 104-191, 110 Stat. 1936;

(e) Section 311(b) the Children's Health Insurance Program Reauthorization Act of 2009, Public Law 111-3, 123 Stat. 65;

(f) Section 3001 of the American Recovery and Reinvestment Act of 2009 Public Law 111-5; and

(g) As directed by the Secretary, such additional Federal acts similar to or related to those listed in paragraphs (i) through (v), above, that from time to time may assign additional authority or responsibilities to the Department or the Secretary.

(2) to request information the Internal Revenue Service (IRS) possesses for use in connection with the administration of Title I of ERISA of 1974.

B. The Assistant Secretary for Administration and Management is responsible for providing all administrative support services to the Employee Benefits Security Administration such as personnel, payroll, budget, accounting, contracting and grants and other such services deemed necessary in support of the agency's mission.

C. The Chief Financial Officer is delegated authority and assigned responsibility, in accordance with applicable appropriations enactments, for establishing policies and procedures: That ensure the accounting, financial, and asset management systems of the Department are designed, maintained, and used effectively to provide financial or program performance data for financial statements; ensure financial and related program performance data are provided on a reliable, consistent, and timely basis; and, ensure that financial statements support assessments and revisions of mission-related processes and administrative processes and performance management of the program activities.

D. The Solicitor of Labor is responsible for providing legal advice and assistance to all officials of the Department relating to the administration of the statutes listed in paragraph 5.a.(1) of this order, for bringing appropriate legal actions on behalf of the Secretary, and representing the Secretary in all civil proceedings. The Solicitor of Labor is also authorized to request information the IRS possesses for use in connection with the administration of Title I of ERISA.

E. The Inspector General is authorized to request information the IRS possesses for use in connection with the administration of Title I of ERISA.

5. Reservation of Authority. The submission of reports and recommendations to the President and the Congress concerning the administration of the statutes listed in paragraph 5.a.(1) of this order and responsibilities under Subtitle C of Title III of ERISA are reserved to the Secretary. The Pension Benefit Guaranty Corporation carries out responsibilities under Title IV of ERISA.

6. Effective Date. This order is effective immediately.

Dated: April 30, 2009.
Hilda L. Solis,
Secretary of Labor.

[FR Doc. E9-10553 Filed 5-6-09; 8:45 am]

BILLING CODE 4510-23-P